DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Gear Identification Requirements.

Form Number(s): None.

OMB Approval Number: 0648-0359.

Type of Request: Regular submission.

Burden Hours: 2,192.

Number of Respondents: 1,000.

Average Hours Per Response: 7 minutes per trap; 10 seconds per coral rock; and 20 minutes per gillnet float.

Needs and Uses: The participants in certain Federally regulated fisheries in the Southeast Region of the U.S. must mark their fishing gear with the vessel's official identification number or permit number (depending upon the fishery) and color code. The harvesters of aquaculture live rock must mark or tag the material deposited. These requirements are needed to aid fishery enforcement activities and for purposes of gear identification of lost or damaged gear and related civil proceedings.

Affected Public: Business or other for-profit organizations; Individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 21, 2005.
Gwellnar Banks,
Management Analyst, Office of the Chief Information Officer.

[FR Doc. 05-8315 Filed 4-25-05; 8:45 am]

BILLING CODE 3510-22-P